GENERAL SERVICES ADMINISTRATION

41 CFR Part 302-16

[FTR Case 2022-04 Docket No. GSA-FTR-2023-0017, Sequence No. 2]

RIN 3090-AK65

Federal Travel Regulation (FTR); Relocation Allowances—Miscellaneous Expenses Allowance

AGENCY: Office of Government-wide Policy (OGP), General Services Administration (GSA).

ACTION: Proposed rule.

SUMMARY: The United States General Services Administration (GSA) is proposing to amend the FTR by removing the relocation miscellaneous expenses allowance (MEA) lump sum amounts from the FTR. These lump sum amounts will be published in FTR Bulletins on an intermittent basis, much like what is done for per diem and mileage rates. The relocation MEA actual (as opposed to lump sum) amounts are unchanged and will remain in the FTR. The proposed rule would also update the types of expenses that may or may not be reimbursed by relocation MEA when employees itemize under actual expense. The proposed rule would also update and clarify other relocation MEA regulatory sections and rearrange them into a more sequential order.

DATES: Interested parties should submit written comments to the Regulatory Secretariat Division at the address shown below on or before March 25, 2024 to be considered in the formation of the final rule.

ADDRESSES: Submit comments in response to FTR Case 2022-04 to: Regulations.gov: http://www.regulations.gov. Submit comments via the Federal eRulemaking portal by searching for “FTR Case 2022-04”. Select the link “Comment Now” that corresponds with “FTR Case 2022-04.” Follow the instructions provided on the screen. Please include your name, company name (if any), and “FTR Case 2022-04” on your attached document. If your comment cannot be submitted using https://www.regulations.gov, call or email the points of contact in the FOR FURTHER INFORMATION CONTACT section of this document for alternate instructions.

Instructions: Please submit comments only and cite FTR Case 2022-04, in all correspondence related to this case. Comments received generally will be posted without change to https://www.regulations.gov, including any personal and/or business confidential information provided. To confirm receipt of your comment(s), please check www.regulations.gov, approximately two to three days after submission to verify posting.

FOR FURTHER INFORMATION CONTACT: For clarification of content, contact Mr. Rodney (Rick) Miller, Program Analyst, Office of Government-wide Policy, at 202-501-3822 or travelpolicy@gsa.gov. For information pertaining to status or publication schedules, contact the Regulatory Secretariat Division at 202-501-4755 or GSARegSec@gsa.gov. Please cite FTR Case 2022-04.

SUPPLEMENTARY INFORMATION:

I. Background

A. Summary of Significant Changes

GSA is proposing to amend the FTR by removing the relocation MEA lump sum amounts, providing that lump sum amounts will be published in FTR Bulletins on an intermittent basis, rearranging the relocation MEA sections into a more sequential order, clarifying and modifying relocation MEA sections by updating employee eligibility for relocation MEA, and updating examples of expenses for which relocation MEA may be authorized or not.

Pursuant to 5 United States Code (U.S.C.) 5738, the Administrator of General Services is authorized to prescribe regulations necessary to implement laws regarding Federal employees when assigned a temporary change of station (TCS) or when otherwise transferred in the interest of the Government. The overall implementing authority is the FTR, codified in title 41 of the Code of Federal Regulations, chapters 300 through 304.

GSA's OGP continually reviews and adjusts policies and regulations under its purview to address Government relocation needs and to incorporate best practices, where appropriate, as a part of its ongoing mission to provide policies for travel by Federal civilian employees and others authorized to travel at Government expense.

Pursuant to 5 U.S.C. 5724a(f) and 5737(a)(6), an employee transferred in the interest of the Government from one official station to another, assigned to a TCS location, or who has completed a TCS assignment and returned to their previous official station is authorized a relocation MEA.

The purpose of the relocation MEA is to defray some of the costs incurred due to relocating. The allowance is related to expenses that are common to living quarters, such as fees for disconnecting and connecting appliances; cutting and fitting rugs, draperies, and curtains moved from one residence to another; utility fees or deposits that are not offset by eventual refunds; forfeiture of medical, dental, and other non-transferrable contracts; and the cost of changing automobile registration(s) and driver's licenses.

The FTR provides that a relocation MEA may be paid using one of two methods: lump sum or actual expense. Under the lump sum method, the agency pays a lump sum amount without requiring employee documentation of expenses. Under the current regulatory language, the lump sum amounts are “either $650 or the equivalent of one week's basic gross pay, whichever is the lesser amount” for an employee without immediate family members relocating with them, and “$1300 or the equivalent of two weeks' basic gross pay, whichever is the lesser amount” for an employee with immediate family members relocating with them.

Under the actual expense method, the agency may authorize the employee to claim actual costs depending on the type of expenses incurred, in an amount in excess of the prescribed lump sum amount. The employee justifies any actual expenses by itemizing with supporting documentation. Reimbursement is limited to one or two weeks' basic gross pay depending on whether or not the employee has an immediate family relocating with them, not to exceed the maximum rate payable for a position at GS-13, Step 10, of the General Schedule (base) (see 5 U.S.C. 5332).

The proposed rule would amend the FTR by removing the relocation MEA lump sum amounts from the FTR and directing readers to an FTR bulletin with the relocation MEA lump sum amounts. GSA would publish the initial FTR bulletin with the relocation MEA lump sum amounts prior to the final rule effective date. Agencies are advised that the relocation MEA lump sum amounts are expected to increase since they were last updated in 2011. Moving forward, GSA will publish FTR bulletins to update the relocation MEA lump sum amounts, as needed, based on changes to the Consumer Price Index. The proposed rule would also clarify in the regulatory text that “basic gross pay”, as referenced in FTR part 302-16, does not include “locality pay.” See 5 U.S.C. 5302 and 5304.

This proposed rule would also update and clarify the relocation MEA sections in the FTR and rearrange them into a more sequential order, to include replacing the table at FTR 302-16.2 with an updated list of examples for which the relocation MEA may be authorized, and updating the list of examples for which the relocation MEA may not be authorized. It would also remove the relocation MEA employee eligibility table at FTR 302-16.3 and reformat it as an employee eligibility listing.

B. Regulatory Impact Analysis

The following section is a list of activities related to the regulatory compliance that GSA anticipates will occur during the first and subsequent years after publication of the final rule. GSA estimates this cost by multiplying the time required to conduct these activities (publication of a proposed rule, final rule, FTR bulletin, and increase in the relocation MEA lump sum amounts) by the estimated (rounded) compensation. GSA calculates the estimated hourly compensation using the U.S. Office of Personnel Management's 2023 General Schedule (GS) Rest of United States Locality Pay Table, the full fringe benefit cost factor of 36.25 percent,¹ and a 12 percent ² overhead factor to arrive at an overall adjustment factor of 52.6 percent.

¹ General Schedule (opm.gov), OMB Memo M-08-13, dated March 11, 2008, and Computing Hourly Rates of Pay Using the 2,087-Hour Divisor (opm.gov).

² See Attachment C of OMB Circular A-76 Revised, dated May 29, 2003.

1. Government Costs

GSA estimated the total cost each year to issue a FTR bulletin with the new relocation MEA lump sum amount, based on the number of GSA full-time employees (FTEs), the average hourly rate for each grade level, and the number of hours to draft the FTR bulletin by program managers, hours to review by General Counsel, and hours to review and approve by senior management.

GSA estimates it will take 8 GSA employees on average, with a GS-14 step 5 with an average hourly rate of $96.45/hour, 1 hour each in year 1 to draft the initial FTR bulletin with the relocation MEA lump sum amount. Therefore, GSA estimates the total estimated cost for this part of the rule to be $772 (= 8 × $96.45 GS-14 step 5 rate × 1 hour).

GSA estimates it will take 1 GSA employee on average, with a GS-15 step 5 with an average hourly rate of $113.46/hour, 1 hour in year 1 to review the initial FTR bulletin with the relocation MEA lump sum amount. Therefore, GSA estimates the total estimated cost for this part of the rule to be $113 (= 1 × $113.46 GS-15 step 5 rate × 1 hour).

GSA estimates it will take 1 GSA General Counsel staff on average, with a SES Level 3 with an average hourly rate of $142.59/hour, 1 hour in year 1 to review the initial FTR bulletin with the relocation MEA lump sum amount. Therefore, GSA estimates the total estimated cost for this part of the rule to be $143 (= 1 × $42.59 SES Level 3 rate × 1 hour).

Therefore, GSA estimates the total estimated cost for this part of the rule to be $1,027 for the initial FTR bulletin and each additional year a FTR bulletin is issued for new lump sum amounts ($1,027 × 10 years = $10,270).

A relocation MEA is a mandatory relocation entitlement to those current employees that transfer from one official duty station to another. Agencies are advised that the relocation MEA lump sum amounts are expected to increase since they were last updated in 2011. Therefore, after publication of the final rule, GSA will publish a FTR bulletin to change the relocation MEA lump sum amounts, with projected increases, from $650 to $750 for an employee without immediate family members relocating with them and from $1,300 to $1,500 for an employee with immediate family members relocating with them.

GSA requires Federal agencies to track general relocation data regarding entitlements but not the specific data regarding types of expenses authorized within the relocation entitlement category. GSA used data from the Business Travel and Relocation Dashboard, which only accounts for the overall MEA claims and does not differentiate between the types of MEA or if MEA is authorized for a single employee or an employee with family members, to calculate average annual relocation MEA costs per claim across Federal agencies from fiscal year 2018 to fiscal year 2022.

GSA calculates the average relocation MEA lump sum amount between the employees without immediate family members and employees with immediate family members amounts to be $1,125 (= $750 + $1,500/2).

GSA assumes the average relocation MEA lump sum amount across Federal agencies will increase to $1,125. GSA multiplied the difference between $1,125 and the average annual relocation MEA cost per claim for those Federal agencies with an average annual MEA cost per claim less than $1,125 by the number of average annual MEA claims for the respective Federal agency.

Therefore, assuming the number of relocation transfers entitled to MEA on average will stay consistent, with the current overall agency average at less than the current rate of $1,300, and an increase in the MEA lump sum rate, for years 1 through 10, GSA estimates the total overall increase in associated transfer payments to be $312,973 each year for years 1 through 10 ($312,973 × 10 years = $3,129,730).

1. Government Savings

GSA estimated the total cost it will no longer be required to take to issue a FTR proposed rule and final rule with new relocation MEA lump sum amount, based on the number of GSA full time employees (FTEs), the average hourly rate for each grade level, and the number of hours to draft the FTR proposed and final rule by program managers, hours reviewed by General Counsel, and hours to review and approve by senior management.

GSA estimates it will no longer take 3 GSA employees on average, with a GS-14 step 5 with an average hourly rate of $96.45/hour, 8 hours each in year 1 to draft a proposed rule for relocation MEA lump sum changes. Therefore, GSA estimates the total estimated cost savings for this part of the rule to be $2,315 (= 3 × $96.45 GS-14 step 5 rate × 8 hours).

GSA estimates it will no longer take 3 GSA employees on average, with a GS-15 step 5 with an average hourly rate of $113.46/hour, 8 hours each in year 1 to review a proposed rule for relocation MEA lump sum changes. Therefore, GSA estimates the total estimated cost savings for this part of the rule to be $2,723 (= 3 × $113.46 GS-15 step 5 rate × 8 hours).

GSA estimates it will no longer take 4 GSA General Counsel staff on average, with a SES Level 3 with an average hourly rate of $142.59/hour, 8 hours each in year 1 to review a proposed rule for relocation MEA lump sum changes. Therefore, GSA estimates the total estimated cost savings for this part of the rule to be $4,563 (= 4 × $142.59 SES Level 3 rate × 8 hours).

These estimated costs do not account for other agencies who review the rules prior to publication in the Federal Register. Therefore, GSA estimates the total estimated cost savings for this part of the rule by not issuing a proposed and final rule to increase the relocation MEA lump sum amounts to be $8,572.

1. Total Government Net Impact

The total undiscounted estimated Government costs of drafting a FTR bulletin and eliminating drafting a proposed and final rule is $1,698 over a 10-year period. The total undiscounted estimated associated transfer payments, assuming the number of relocation transfers entitled to MEA on average will stay consistent, the current overall agency average is less than the current rate of $1,300, and the increase in the MEA lump sum rate, is $3,129,730 over a 10-year period. The total present value estimated Government costs calculated for a 10-year time horizon at 3 percent is $438 and at 7 percent is −$798. The total discounted estimated associated transfer payments calculated for a 10-year horizon at 3 percent is $2,328,813 and at 7 percent is $1,590,996.

II. Executive Orders 12866, and 13563, and 14904

Executive Orders (E.O.s) 12866 (Regulatory Planning and Review) directs agencies to assess all costs and benefits of available regulatory alternatives and, if regulation is necessary, to select regulatory approaches that maximize net benefits (including potential economic, environmental, public health and safety effects, distributive impacts, and equity). E.O. 13563 (Improving Regulation and Regulatory Review) emphasizes the importance of quantifying both costs and benefits, of reducing costs, of harmonizing rules, and of promoting flexibility. E.O. 14094 (Modernizing Regulatory Review) supplements and reaffirms the principles, structures, and definitions governing contemporary regulatory review established in E.O. 12866 and E.O. 13563. OIRA has determined this is a significant regulatory action and, therefore, was subject to review under section 6(b) of E.O. 12866, Regulatory Planning and Review, dated September 30, 1993.

III. Regulatory Flexibility Act

GSA does not expect this proposed rule to have a significant economic impact on a substantial number of small entities within the meaning of the Regulatory Flexibility Act, 5 U.S.C. 601, et seq., because it applies only to Federal agencies and employees. Therefore, an Initial Regulatory Flexibility Analysis was not performed.

IV. Paperwork Reduction Act

The Paperwork Reduction Act does not apply because the changes to the FTR do not impose recordkeeping or information collection requirements, or the collection of information from offerors, contractors, or members of the public that require the approval of the Office of Management and Budget (OMB) under 44 U.S.C. 3501, et seq.

List of Subjects in 41 CFR Part 302-16

Government employees, Travel and Transportation expenses.

Krystal J. Brumfield,
Associate Administrator, Office of Government-wide Policy.

For reasons set forth in the preamble, GSA proposes to revise 41 CFR part 302-16 as set forth below:

PART 302-16—ALLOWANCE FOR MISCELLANEOUS EXPENSES

Subpart A—General Rules
Sec.
302-16.1 What is the purpose of the miscellaneous expenses allowance (MEA)?
302-16.2 Who is and who is not eligible for a MEA?
302-16.3 Must my agency authorize payment of a MEA?
302-16.4 How will I receive the MEA?
302-16.5 May I receive an advance of funds for MEA?
302-16.6 What amount may my agency reimburse me for miscellaneous expenses?
302-16.7 May I claim an amount in excess of that prescribed in this part?
302-16.8 What are examples of types of costs covered by the MEA?
302-16.9 What are examples of types of cost not covered by the MEA?
302-16.10 What standard of care must I use in incurring miscellaneous expenses?
Subpart B—Agency Responsibilities
302-16.100 What governing policies must we establish for MEA?
302-16.101 How should we administer the authorization and payment of miscellaneous expenses?
302-16.102 Are there any restrictions to the types of costs we may cover?

Authority: 5 U.S.C. 5738; 20 U.S.C. 905(a); E.O. 11609, as amended, 3 CFR, 1971-1975 Comp., p. 586.

Subpart A—General Rules

Note to subpart A: Use of pronouns “I,” “you,” and their variants throughout this subpart refers to the employee, unless otherwise noted.

§ 302-16.1 What is the purpose of the miscellaneous expenses allowance (MEA)?

The miscellaneous expenses allowance (MEA) is intended to help defray various costs incurred due to relocation, assignment to a temporary official station (TCS), and return to the previous official station upon completion of a TCS assignment.

§ 302-16.2 Who is and who is not eligible for a MEA?

(a) You are eligible for a MEA if:

(1) Your agency authorized or approved a transfer or a TCS;

(2) You discontinued and established a residence in connection with your transfer or TCS;

(3) You meet the applicable eligibility conditions in part 302-1 of this chapter; and

(4) You signed a required service agreement in part 302-2 of this chapter, if transferred.

(b) You are not eligible for a MEA if you are:

(1) A new appointee;

(2) A Senior Executive Service (SES) employee authorized “last move home” benefits upon separation from Government service;

(3) Assigned under the Government Employees Training Act (5 U.S.C. 4109);

(4) Returning from an OCONUS official station to place of actual residence for separation from Government service; or

(5) Returning from an OCONUS official station to a new CONUS official station if relocation expenses have not been authorized to the new CONUS official station.

§ 302-16.3 Must my agency authorize payment of a MEA?

Yes, if you meet the applicable eligibility conditions in § 302-16.2, your agency must authorize payment of a MEA.

§ 302-16.4 How will I receive the MEA?

You will be reimbursed your MEA in accordance with your agency's internal relocation policy.

§ 302-16.5 May I receive an advance of funds for MEA?

No, your agency may not authorize an advance of funds for MEA. MEA may be paid after you have transferred to the new official station, upon assignment to your TCS, or upon completion of your TCS and return to your previous official station, as applicable.

§ 302-16.6 What amount may my agency reimburse me for miscellaneous expenses?

The following amounts will be paid for miscellaneous expenses without support or documentation of expenses:

(a) Either a lump sum amount set in an FTR bulletin or the equivalent of one week's basic gross pay, whichever is the lesser amount, if you have no immediate family relocating with you; or

(b) Either a lump sum amount set in an FTR bulletin or the equivalent of two weeks' basic gross pay, whichever is the lesser amount, if you have immediate family relocating with you.

Note 1 to § 302-16.6: GSA publishes the lump sum amounts in an FTR bulletin on an intermittent basis at https://gsa.gov/ftrbulletins.

§ 302-16.7 May I claim an amount in excess of that prescribed in this part?

Yes, you may claim an amount in excess of that prescribed in § 302-16.6 if authorized by your agency; and

(a) Supported by acceptable statements of fact, paid bills or other acceptable evidence (documentation) justifying the amounts claimed; and

(b) The aggregate amount does not exceed your basic gross pay (at the time you reported for duty, at your new official station) for:

(1) One week if you are relocating without an immediate family; or

(2) Two weeks if you are relocating with an immediate family.

(c) The amount authorized cannot exceed the maximum rate of grade GS-13, Step 10 General Schedule (base) salary (excluding locality pay) (see 5 U.S.C. 5332) at the time you reported for duty at your new official station.

§ 302-16.8 What are examples of types of costs covered by the MEA?

Miscellaneous expenses are costs associated with relocating that are not covered by other relocation benefits detailed in chapter 302. Expenses allowable include but are not limited to the following, and similar, items:

(a) Fees for disconnecting and connecting utilities (such as gas, water, electricity), appliances, equipment (such as a security system or electric vehicle charging station), or conversion of appliances for operation on available utilities;

(b) Fees for cutting and fitting rugs, draperies, and curtains when they are moved from one residence to another;

(c) Deposits or fees for utilities not offset by eventual refunds;

(d) Losses that cannot be recovered by transfer or refund and are incurred due to early termination of a contract (e.g., medical, dental, private institutional care for immediate family members with disabilities, nonrefundable education enrollment fee, real estate expenses connected with the cancellation of a contract when the agency prevented the employee from completing a purchase of a residence due to a new transfer);

(e) Automobile registration, driver's license, and use taxes imposed when initially bringing privately-owned vehicles (POVs) into certain jurisdictions;

(f) Reinstalling or removing automobile parts upon vehicle reentry into the United States or entry into a foreign country, when removal or installation of those automobile parts was required by host country law;

(g) Post office box rental fee when rented to provide a constant mailing address between the time an employee departs the old residence and occupies a residence at the new official station;

(h) Rental agent fees customarily charged for securing housing in foreign countries;

(i) Reassembly, set up, and tuning of a piano moved for relocation;

(j) Pet care (for cats and dogs only), child care, or adult care for dependent parents or other adult dependents incapable of self-care at home while the employee or spouse are away on a househunting trip, or are packing or unpacking;

(k) Rental car fees while awaiting a delayed POV shipment to or from OCONUS if the transportation service provider (TSP) has not arranged for the employee's use of a rental car at TSP expense. Reimbursement may be authorized starting after the shipping company designated delivery date, shall not exceed 10 days, and does not include the days after the POV is delivered or a new POV is purchased at location. The rental car for the employee and immediate family members must be the same or comparable size or model as the POV the employee shipped;

(l) Transportation and quarantine of pets (cats and dogs only). Costs normally associated with the transportation, quarantine fees, and handling of dogs and cats. This includes pet-related costs due to air carrier rules or imposed by the law of the jurisdiction of the employee's new residence as an integral part of the process of admissions and licensing;

(m) Professional relicensing fees required by the new official station that are directly related to the employee's occupation, such as fees required to take the bar exam or teaching certification; and professional relicensing fees or business costs (including exam, continuing education courses, business license, permit, and registration fees) that are directly related to the immediate family member's occupation, when the immediate family member was licensed or certified in a profession, or owned a business, at the employee's previous official station and is required to secure or maintain a new professional license or certification, or business license or permit, to engage in that profession in a new jurisdiction because of unique licensing or certification requirements and authorities; or

(n) Specialized shipment of hazardous materials, such as lithium batteries, when Federal, state, local, and foreign country laws or carrier regulations prohibit commercial shipment of certain articles not included as part of household goods, which cannot be otherwise transported to the new official station because of shipping and transportation restrictions.

§ 302-16.9 What are examples of types of costs not covered by the MEA?

Examples of costs that are not reimbursable from the MEA are:

(a) Losses in selling or buying real and personal property and costs related to such transactions;

(b) Cost of additional insurance on household goods while in transit to the new official station or cost of loss or damage to such property;

(c) Additional costs of moving household goods caused by exceeding the maximum weight limitation;

(d) Costs of newly acquired items, such as the purchase or installation cost of new rugs or draperies;

(e) Higher income, real estate, sales, or other taxes as the result of establishing residence in the new locality;

(f) Fines imposed for traffic infractions while en route to the new official station locality;

(g) Accident insurance premiums or liability costs incurred in connection with travel to the new official station locality, or any other liability imposed upon the employee for uninsured damages caused by accidents for which the employee or their immediate family is held responsible;

(h) Losses as the result of sale or disposal of items of personal property (such as lithium batteries, gasoline, and natural gas) not considered convenient or practicable to move;

(i) Damage or loss of clothing, luggage, or other personal effects while traveling to the new official station locality;

(j) Subsistence, transportation, or mileage expenses in excess of the amounts reimbursed as per diem or other allowances under this regulation;

(k) Medical expenses due to illness or injuries while en route to the new official station or while living in temporary quarters at Government expense under the provisions of this chapter;

(l) Costs incurred in conjunction with structural alterations (such as remodeling or modernizing of living quarters, garages or other buildings to accommodate privately-owned automobiles, appliances or equipment [e.g., a security system or electric vehicle charging station]); or replacing or repairing worn-out or defective appliances, or equipment shipped to the new location;

(m) Costs incurred in connection with preparing a residence for sale or purchase (e.g., maintenance, repairs, cleaning);

(n) Delivery charges or costs associated with newly-acquired items (such as appliances, security systems, locksmith service, or new vehicle) at the new official station for reasons of personal taste or preference and not required because of the relocation;

(o) Costs unrelated to the quarantine, transportation, and handling of pets. Additional costs for lodging for a second room or boarding fees, micro-chipping, veterinary expenses (e.g., inoculations, examinations, medical care and certification fees), routine care and grooming of pets, and purchases of crates and tags for the pets. Expenses for other animals (horses, fish, birds, reptiles, rodents, etc.) are not authorized because of their size, exotic nature, restrictions on shipping, host country restrictions, and special handling difficulties; or

(p) Costs related to obtaining a visa, passport, immigration green card, birth certificate or other acceptable evidence of birth when required for official travel to foreign locations; charges for immunization, inoculations, other disease-preventative medical prophylaxis, including disease testing, that are required for official travel if not obtained through the agency. The expenses in this paragraph may be reimbursable as part of the employee's relocation en route travel miscellaneous expenses as specified in § 301-12.1 of this chapter.

§ 302-16.10 What standard of care must I use in incurring miscellaneous expenses?

You must exercise the same care in incurring expenses that a prudent person would exercise if relocating at personal expense.

Subpart B—Agency Responsibilities

Note to subpart B: Use of pronouns “we,” “you,” and their variants throughout this subpart refers to the agency.

§ 302-16.100 What governing policies must we establish for MEA?

For MEAs, you must establish policies and procedures governing:

(a) Who will determine whether payment for an amount in excess of the lump sum MEA is appropriate; and

(b) How you will pay a MEA in accordance with §§ 302-16.2 and 302-16.3.

§ 302-16.101 How should we administer the authorization and payment of miscellaneous expenses?

You should limit payment of miscellaneous expenses to only those expenses that are necessary.

§ 302-16.102 Are there any restrictions to the types of costs we may cover?

Yes, a MEA cannot be used to reimburse:

(a) Costs or expenses incurred which exceed maximums provided by statute or in this subtitle;

(b) Costs or expenses incurred but which are disallowed elsewhere in this subtitle;

(c) Costs reimbursed under other provisions of law or regulations;

(d) Costs or expenses incurred for reasons of personal taste or preference and not required because of the move;

(e) Losses covered by insurance;

(f) Fines or other penalties imposed upon the employee or members of their immediate family;

(g) Judgments, court costs, and similar expenses growing out of civil actions; or

(h) Any other expenses brought about by circumstances, factors, or actions in which the move to a new official station was not the proximate cause.

[FR Doc. 2024-01214 Filed 1-22-24; 8:45 am]

BILLING CODE 6820-14-P